DEPARTMENT OF TRANSPORTATION

Federal Highway Administration

Surface Transportation Environment and Planning Cooperative Research Program (STEP)

AGENCY: Federal Highway Administration (FHWA), DOT.

ACTION: Notice.

SUMMARY: Section 5207 of the Safe, Accountable, Flexible, Efficient Transportation Equity Act: A Legacy for Users (SAFETEA-LU) established the Surface Transportation Environment and Planning Cooperative Research Program (STEP). The FHWA anticipates that resources for STEP or a similar program to carry out national research on issues related to planning, environment, and realty are likely to be included in future surface transportation legislation even though SAFETEA-LU expires at the end of this fiscal year. Legislation preceding SAFETEA-LU—the Intermodal Surface Transportation Efficiency Act of 1991 (ISTEA) and the Transportation Equity Act for the 21st Century (TEA-21)—provided resources for FHWA to carry out surface transportation research initiatives that included planning, environment, and realty research. SAFETEA-LU continued FHWA's research program funding and established STEP.

The purpose of this notice is to announce the proposed FY 2010 STEP implementation strategy in anticipation that the FHWA is likely to receive resources for national research on issues related to environment and planning as a part of future transportation legislation and to request suggested lines of research for FY 2010 via the STEP Web site at: http://www.fhwa.dot.gov/hep/step/index.htm. Stakeholder feedback from the STEP Web site provides useful research ideas and helps to prevent redundant areas of research, saving valuable research funds.

DATES: Suggestions for lines of research should be submitted to the STEP Web site on or before December 3, 2009.

FOR FURTHER INFORMATION CONTACT: Felicia Young, Office of Interstate and Border Planning, (202) 366-1263, Felicia.young@dot.gov; or Grace Reidy, Office of the Chief Counsel, (202) 366-6226; Federal Highway Administration, 1200 New Jersey Avenue, SE., Washington, DC 20590. Office hours are from 7:45 a.m. to 4:15 p.m., e.t., Monday through Friday, except Federal holidays.

SUPPLEMENTARY INFORMATION:

Electronic Access

An electronic copy of this notice may be downloaded from the Office of the Federal Register's home page at http://www.archives.gov and the Government Printing Office's Web site at http://www.access.gpo.gov.

Background

Section 5207 of SAFETEA-LU (Pub. L. 109-59, Aug. 10, 2005) established the Surface Transportation Environment and Planning Cooperative Research Program. STEP was codified in section 507 of Title 23, United States Code. The FHWA anticipates that the STEP or a similar program, to provide resources for national research on issues related to planning, environment, and realty, is likely to be included in future surface transportation legislation. The general objective of STEP is to improve understanding of the complex relationship between surface transportation, planning, and the environment.

SAFETEA-LU provided $16.875 million per year for fiscal years 2006—2009 to implement this cooperative research program. Due to obligation limitations, rescissions, and Congressional designation of Title V Research in SAFETEA-LU, on average $13 million of the $16.875 million authorized was available each fiscal year. We anticipate similar funding levels in the next authorization or related legislation to extend SAFETEA-LU.

STEP is the primary source of funds for FHWA to conduct research and develop tools and technologies to advance the state of the practice regarding national surface transportation and environmental decisionmaking. In FY 2010, the FHWA expects to seek partnerships that can leverage limited research funding in STEP with other stakeholders and partners in order to increase the total amount of resources available to address the nation's surface transportation research needs.

In FY 2010, the FHWA anticipates that it is likely to receive funds for STEP or other research funding to:

(1) Conduct research to develop climate change mitigation and adaptation strategies;

(2) Improve state of the practice regarding livability and the impact of transportation on the environment;

(3) Develop and/or support the implementation of models and tools for evaluating transportation measures and develop indicators of economic, social, and environmental performance of transportation systems;

(4) Develop and deploy research to address congestion reduction efforts;

(5) Develop transportation safety planning strategies for surface transportation systems and improvements;

(6) Improve planning, operation, and management of surface transportation systems and rights of way;

(7) Enhance knowledge of strategies to improve transportation in rural areas and small communities;

(8) Strengthen and advance State/local and tribal capabilities regarding surface transportation and the environment;

(9) Improve transportation decisionmaking and coordination across borders;

(10) Conduct research to promote environmental streamlining/stewardship;

(11) Disseminate research results and advances in state of the practice through peer exchanges, workshops, conferences, etc;

(12) Meet additional priorities as determined by the Secretary; and

(13) Refine the scope and research emphases through active outreach and in consultation with stakeholders.

The FHWA is issuing this notice to: (1) Announce the proposed FY 2010 STEP Implementation Strategy in anticipation of future surface transportation legislation, and (2) solicit comments on proposed research activities likely to be undertaken in the FY 2010 STEP via the STEP Web site. The STEP Implementation Strategy includes updated information regarding historical planning and environment research funding and proposed FY 2010 STEP funding levels, goals, and research activities.

We invite the public to visit this Web site to obtain additional information on STEP, as well as information on the process for forwarding comments to FHWA regarding the STEP implementation plan. The URL for the STEP Web site is: http://www.fhwa.dot.gov/hep/step/index.htm. The FHWA will use this Web site as a major mechanism for informing the public regarding the status of STEP.

Authority: 23 U.S.C. 507.

Issued on August 31, 2009.
Victor M. Mendez,
Federal Highway Administrator.

[FR Doc. E9-21378 Filed 9-3-09; 8:45 am]

BILLING CODE 4910-22-P